DEPARTMENT OF THE TREASURY

Terrorism Risk Insurance Program; Recordkeeping Requirements for Insurers Compensated Under the Program

AGENCY: Departmental Offices.

ACTION: Notice and request for comments.

SUMMARY: The Department of the Treasury, as part of its continuing effort to reduce paperwork burdens, invites the general public and other Federal agencies to comment on a currently approved information collection that is due for extension approval by the Office of Management and Budget. The Terrorism Risk Insurance Program Office within the Department of the Treasury is soliciting comments concerning the Recordkeeping Requirements set forth in 31 CFR part 50, subpart (Sec. 50.50-50.55)

DATES: Written comments should be received on or before July 27, 2010 to be assured of consideration.

ADDRESSES: Submit comments by e-mail to triacomments@do.treas.gov or by mail (if hard copy, preferably an original and two copies) to: Terrorism Risk Insurance Program, Public Comment Record, Suite 2100, Department of the Treasury, 1425 New York Ave., NW., Washington, DC 20220. Because paper mail in the Washington DC area may be subject to delay, it is recommended that comments be submitted electronically. All comments should be captioned with “PRA Comments—Recordkeeping Requirements for Insurers Compensated Under the Program”. Please include your name, affiliation, address, e-mail address and telephone number in your comment. Comments will be available for public inspection by appointment only at the Reading Room of the Treasury Library. To makes appointments, call (202) 622-0990 (not a toll-free number).

FOR FURTHER INFORMATION CONTACT: Requests for additional information should be directed to: Terrorism Risk Insurance Program Office at (202) 622-6770 (not a toll-free number).

SUPPLEMENTARY INFORMATION:

OMB Number: 1505-0197.

Title: Terrorism Risk Insurance Program—Recordkeeping Requirements for Insurers Compensated Under the Program.

Abstract: Sections 103(a) and 104 of the Terrorism Risk Insurance Act of 2002 (Pub. L. 107-297) (as extended by the Terrorism Risk Insurance Extension Act of 2005 (Pub.L. 109-144) and the Terrorism Risk Insurance Program Reauthorization Act of 2007 (Pub.L. 110-160) authorize the Department of the Treasury to administer and implement the Terrorism Risk Insurance Program established by the Act. In 31 CFR part 50, subpart F (Sec. 50.50-50.55) Treasury established requirements and procedures for insurers that file claims for payment of the Federal share of compensation for insured losses resulting from a certified act of Terrorism under the Act. Section 50.60 allows Treasury access to records of an insurer pertinent to the amounts paid as the Federal share of compensation for insured losses in order to conduct investigations, confirmations and audits. Section 50.61 requires insurers to retain all records as are necessary to fully disclose all material matters pertaining to insured losses. This collection of information is the record keeping requirement in Sec. 50.61.

Type of Review: Extension of a currently approved data collection

Affected Public: Business or other for-profit, Federal Government.

Estimated Number of Respondents: 100

Estimated Average Time per Respondent: 8.3 hours.

Estimated Total Annual Burden Hours: 833 hours.

Request for Comments.: An agency may not conduct or sponsor, and a person is not required to respond to, a collection of information unless the collection of information displays a valid OMB control number. Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information collections; (d) ways to minimize the burden of the collection of information on respondents, including through the use of automated collection techniques or other forms of information technology; and (e) estimates of capital or start-up costs and costs of operation, maintenance, and purchase of services to provide information.

Dated: May 18, 2010.
Jeffrey S. Bragg,
Director, Terrorism Risk Insurance Program.

[FR Doc. 2010-12839 Filed 5-27-10; 8:45 am]

BILLING CODE P